DEPARTMENT OF ENERGY

Federal Energy Regulatory Commission

[Docket No. EG00-138-000, et al.]

TXU (No.5) Pty Ltd., et al.; Electric Rate and Corporate Regulation Filings

May 11, 2000.

Take notice that the following filings have been made with the Commission:

1. TXU (No.5) Pty Ltd.

[Docket No. EG00-138-000]

Take notice that on May 9, 2000, TXU (No. 5) Pty Ltd, filed a withdrawal of their Application for Commission Determination of Exempt Wholesale Generator Status that was filed with the Federal Energy Regulatory Commission (Commission) on April 27, 2000, pursuant to Rule 216 of the Rules of Practice and Procedure (18 CFR 365.216).

Comment date: May 24, 2000, in accordance with Standard Paragraph E at the end of this notice.

2. ISO New England Inc.

[Docket Nos. EL00-62-001 and ER00-2052-002]

Take notice that on May 8, 2000, ISO New England Inc. amended its March 31, 2000 filing (as corrected on April 3 and May 1, 2000) to request termination of the New England Power Pool (NEPOOL) Installed Capability market effective June 1, 2000.

Copies of said filing and a redacted version of Appendix 1 have been served upon the Secretary of the NEPOOL Participants Committee, as well as upon the utility regulatory agencies of the six New England States and the New England Conference of Public Utilities Commissioners.

Comment date: May 30, 2000, in accordance with Standard Paragraph E at the end of this notice.

3. ISO New England Inc.

[Docket Nos. EL00-62-002 and ER00-2052-003]

Take notice that on May 8, 2000, contemporaneously with ISO New England Inc.'s amendment of its March 31, 2000 filing (as corrected on April 3 and May 1, 2000) to request termination of the New England Power Pool (NEPOOL) Installed Capability market effective June 1, 2000, ISO New England also filed separately in these dockets (on a confidential basis under 18 CFR 388.112) an Appendix 1, reporting mitigation activity in the Installed Capability market, in accordance with NEPOOL Market Rule 17.

Copies of said filing and a redacted version of Appendix 1 have been served upon the Secretary of the NEPOOL Participants Committee, as well as upon the utility regulatory agencies of the six New England States and the New England Conference of Public Utilities Commissioners.

Comment date: May 30, 2000, in accordance with Standard Paragraph E at the end of this notice.

4. Paul T. Champagne

[Docket No. ID-3500-000]

Take notice that on May 4, 2000, Paul T. Champagne filed an Application for Authorization to Hold Interlocking Positions pursuant to section 305(b) of the Federal Power Act.

Comment date: June 12, 2000, in accordance with Standard Paragraph E at the end of this notice.

5. Southern Minnesota Municipal Power Agency

[Docket No. NJ00-3-001]

Take notice that on May 3, 2000, Southern Minnesota Municipal Power Agency tendered for filing a revision to schedule 4 of its non-jurisdictional tariff. That revised version of schedule 4 was proffered as a replacement for the version filed on April 25, 2000, and noticed on April 28, 2000 in the above-referenced docket number.

Comment date: May 30, 2000, in accordance with Standard Paragraph E at the end of this notice.

6. El Paso Electric Company

[Docket No. OA97-686-001]

Take notice that on May 5, 2000, El Paso Electric Company filed a report with the Federal Energy Regulatory Commission (Commission) pursuant to the Commission's order in Allegheny Power Service Co., et al., 90 FERC ¶ 61,224 (2000).

Comment date: June 12, 2000, in accordance with Standard Paragraph E at the end of this notice.

7. AllEnergy Marketing Company, L.L.C., New England Power Company, Massachusetts Electric Company, Nantucket Electric Company, Granite State Electric Company and The Narragansett Electric Company

[Docket No. OA00-1-001]

Take notice that on May 4, 2000 in compliance with the Commission's April 4, 2000 order in New England Power Company, et al., 91 FERC ¶ 61,013 (2000), AllEnergy Marketing Company, L.L.C., New England Power Company, Massachusetts Electric Company, Nantucket Electric Company, Granite State Electric Company and The Narragansett Electric Company submitted for filing a revised power marketer code of conduct.

Comment date: June 12, 2000, in accordance with Standard Paragraph E at the end of this notice.

8. Arizona Public Service Company

[Docket No. ER99-2852-001]

Take notice that on May 4, 2000, Arizona Public Service Company (APS), tendered for filing a Compliance Refund Report for refunds made in accordance with the Commission's letter of approval of the Offer of Settlement dated March 30, 2000 with the Arizona Electric Power Cooperative, Inc. in Docket No. ER99-2852-0000.

Copies of this filing have been served on Arizona Electric Power Cooperative, Inc. and the Arizona Corporation Commission.

Comment date: May 25, 2000, in accordance with Standard Paragraph E at the end of this notice.

9. Southern California Edison Company

[Docket No. ER98-441-019]

Take notice that on May 3, 2000, Reliant Energy Mandalay, LLC, Reliant Energy Etiwanda, LLC, Reliant Energy Power Generation, Inc., Reliant Energy Services, Inc., Southern California Edison Company, the California Independent System Operator Corp., the California Power Exchange, Pacific Gas and Electric Company, and San Diego Gas & Electric Company tendered for filing an Offer of Settlement. The Offer of Settlement resolves all of the unresolved issues set forth in Article X, sections A.2 through A.5, of the Stipulation and Agreement filed on April 2, 1999 in this docket and approved by the Commission on May 28, 1999.

Copies of the filing were served on the parties to the service list established in the above-captioned proceeding.

Comment date: May 24, 2000, in accordance with Standard Paragraph E at the end of this notice.

10. California Independent System Operator Corporation

[Docket Nos. ER99-1971-006]

Take notice that on May 3, 2000, the California Independent System Operator Corporation (ISO), tendered for filing a Notice of Effective Date, dated May 2, 2000, which specifies that the Tariff revisions relating to the Generator Communications Project approved in Amendment No. 14 to the ISO Tariff became effective on February 7, 2000, pursuant to the Commission's May 26, 1999 order in this proceeding.

The ISO states that this filing has been served on all parties listed on the official service list in the above-referenced docket.

Comment date: May 24, 2000, in accordance with Standard Paragraph E at the end of this notice.

11. Fresno Cogeneration Partners, L.P.

[Docket No. ER00-2392-000]

Take notice that on May 3, 2000, Fresno Cogeneration Partners, L.P. (FCPLP), tendered for filing, under section 205 of the Federal Power Act and Part 35 of the Commission's Regulations, a petition for order accepting initial rate schedule, Electric Rate Schedule FERC No. 1, pertaining to the sale of energy, capacity, replacement reserves at market-based rates, and for the waiver of certain Commission regulations and blanket authorization of others. FCPLP also requests authority, as provided in the proposed rate schedule, to sell ancillary services.

FCPLP requests that this rate schedule become effective as of April 28, 2000.

Copies of the filing were served on the California Public Utilities Commission and the California Independent System Operator.

Comment date: May 24, 2000, in accordance with Standard Paragraph E at the end of this notice.

12. PacifiCorp

[Docket No. ER00-2393-000]

Take notice that on May 3, 2000, PacifiCorp tendered for filing in accordance with 18 CFR 35 of the Commission's Rules and Regulations, a Long-term Firm Point-to-Point Transmission Service Agreement with Western Area Power Administration, Rocky Mountain Region (Western) under PacifiCorp's FERC Electric Tariff, First Revised Volume No. 11 (Tariff).

Copies of this filing were supplied to the Washington Utilities and Transportation Commission and the Public Utility Commission of Oregon.

Comment date: May 24, 2000, in accordance with Standard Paragraph E at the end of this notice.

13. Allegheny Energy Service Corporation on behalf of Allegheny Energy Supply Company, LLC

[Docket No. ER00-2394-000]

Take notice that on May 3, 2000, Allegheny Energy Service Corporation on behalf of Allegheny Energy Supply Company, LLC (Allegheny Energy Supply), tendered for filing Supplement No. 40 to add one (1) new Customer to the Market Rate Tariff under which Allegheny Energy Supply offers generation services.

Allegheny Energy Supply requests a waiver of notice requirements to make service available as of April 7, 2000 to Conectiv Energy Supply, Inc.

Copies of the filing have been provided to the Public Utilities Commission of Ohio, the Pennsylvania Public Utility Commission, the Maryland Public Service Commission, the Virginia State Corporation Commission, the West Virginia Public Service Commission, and all parties of record.

Comment date: May 24, 2000, in accordance with Standard Paragraph E at the end of this notice.

14. PG&E Energy Services Corporation

[Docket No. ER00-2395-000]

Take notice that on May 3, 2000, PG&E Energy Services Corporation (PGES), 345 California Street, Suite 3200, San Francisco, California 94104, tendered for filing revisions to its market-based rate schedule and code of conduct to reflect its proposed affiliation with Portland General Electric Company.

Comment date: May 24, 2000, in accordance with Standard Paragraph E at the end of this notice.

15. Energetix, Inc.

[Docket No. ER00-2396-000]

Take notice that on May 3, 2000, Energetix, Inc., tendered for filing to amend its market-based rate tariff, FERC Electric Rate Schedule No. 1, to permit sales to its affiliate, Rochester Gas and Electric Corporation, without making a separate filing under section 205 of the Federal Power Act.

Comment date: May 24, 2000, in accordance with Standard Paragraph E at the end of this notice.

16. Consumers Energy Company

[Docket No. ER00-2397-000]

Take notice that on May 3, 2000, Consumers Energy Company (Consumers), tendered for filing a Facilities Agreement Between Consumers and Modular Power Systems, LLC, (Modular), dated April 26, 2000. Under the Facilities Agreement, Consumers is to construct, operate and maintain various interconnection facilities.

Consumers requests that the Facilities Agreement be allowed to become effective within 60 days after filing.

Copies of the filing were served upon Modular and upon the Michigan Public Service Commission.

Comment date: May 24, 2000, in accordance with Standard Paragraph E at the end of this notice.

17. Baconton Power LLC

[Docket No. ER00-2398-000]

Take notice that on May 3, 2000, Baconton Power LLC, tendered for filing pursuant to section 205 of the Federal Power Act, a request for blanket approval to make sales at market-based rates from its generator located in southwestern Georgia. Baconton also requests the waivers traditionally granted to parties authorized to sell power at market-based rates.

Baconton seeks a waiver of the Commission's 60-day prior notice and filing requirements and an effective date from the Commission of May 17, 2000.

Comment date: May 24, 2000, in accordance with Standard Paragraph E at the end of this notice.

18. Louisville Gas and Electric Company/Kentucky Utilities Company

[ Docket No. ER00-2399-000]

Take notice that on May 4, 2000, Louisville Gas and Electric Company (LG&E)/Kentucky Utilities (KU) (hereinafter Companies), tendered for filing executed Firm and Non-Firm Point-to-Point Transmission Service Agreements between the Companies and Cinergy Capital and Trading, Inc., under the Companies Open Access Transmission Tariff.

Comment date: May 25, 2000, in accordance with Standard Paragraph E at the end of this notice.

19. Louisville Gas and Electric Company/Kentucky Utilities Company

[Docket No. ER00-2400-000]

Take notice that on May 4, 2000, Louisville Gas and Electric Company (LG&E)/Kentucky Utilities (KU) (hereinafter Companies), tendered for filing executed Firm and Non-Firm Point-to-Point Transmission Service Agreements between the Companies and MIECO, Inc., under the Companies Open Access Transmission Tariff.

Comment date: May 25, 2000, in accordance with Standard Paragraph E at the end of this notice.

20. Pacific Gas and Electric Company

[Docket No. ER00-2401-000]

Take notice that on May 4, 2000, Pacific Gas and Electric Company (PG&E) tendered for filing an agreement entitled “GPU Solar Service Agreement for Wholesale Distribution Service” (Service Agreement) with GPU Solar, Inc., submitted pursuant to the PG&E Wholesale Distribution Tariff (WDT).

The Service Agreement facilitates payment of PG&E's costs of designing, constructing, procuring, testing, placing in operation, owning, operating and maintaining the customer-specific facilities requested by GPU Solar, Inc., required for service over PG&E's distribution facilities. PG&E has requested certain waivers.

Copies of this filing have been served upon GPU Solar, Inc., and the California Public Utilities Commission.

Comment date: May 25, 2000, in accordance with Standard Paragraph E at the end of this notice.

21. WPS Resources Operating Companies

[Docket No. ER00-2402-000]

Take notice that on May 4, 2000, WPS Resources Operating Companies (WPSR) tendered for filing an executed Service Agreement with Upper Peninsula Power Company, providing for transmission service under FERC Electric Tariff, Volume No. 1.

Comment date: May 25, 2000, in accordance with Standard Paragraph E at the end of this notice.

22. Wisconsin Public Service Corporation

[Docket No. ER00-2403-000]

Take notice that on May 4, 2000, Wisconsin Public Service Corporation (WPSC), tendered for filing an executed Service Agreement with Wisconsin Electric Power Supply Company, providing for transmission service under FERC Electric Tariff, Volume No. 1.

Comment date: May 25, 2000, in accordance with Standard Paragraph E at the end of this notice.

23. Allegheny Energy Service Corporation, on behalf of Allegheny Energy Supply Company, LLC

[Docket No. ER00-2404-000]

Take notice that on May 4, 2000, Allegheny Energy Service Corporation on behalf of Allegheny Energy Supply Company, LLC (Allegheny Energy Supply), tendered for filing Amendment No. 1 to Supplement No. 35 to the Market Rate Tariff to incorporate a Netting Agreement with NewEnergy, Inc. into the tariff provisions.

Allegheny Energy Supply requests a waiver of notice requirements to make the Amendment effective as of April 10, 2000 or such other date as ordered by the Commission.

Copies of the filing have been provided to the Public Utilities Commission of Ohio, the Pennsylvania Public Utility Commission, the Maryland Public Service Commission, the Virginia State Corporation Commission, the West Virginia Public Service Commission, and all parties of record.

Comment date: May 25, 2000, in accordance with Standard Paragraph E at the end of this notice.

24. Cinergy Services, Inc.

[Docket No. ER00-2405-000]

Take notice that on May 4, 2000, Cinergy Services, Inc., on behalf of The Cincinnati Gas & Electric Company (CG&E), tendered for filing for approval an Interconnection Agreement dated as of March 30, 2000 and entered into by and between the City of Lebanon, Ohio, The Cincinnati Gas & Electric Company and Cinergy Services, Inc.

The Interconnection Agreement will allow for an interconnection point at the 69 KV bus of the City of Lebanon's switching station located adjacent to CG&E's Warren 138 KV Substation.

Cinergy states that it has served a copy of its filing upon the City of Lebanon, Ohio and the Public Utilities Commission of Ohio.

Comment date: May 25, 2000, in accordance with Standard Paragraph E at the end of this notice.

25. Entergy Services, Inc.

[Docket No. ER00-2406-000]

Take notice that on May 4, 2000, Entergy Services, Inc. (Entergy Services), tendered for filing on behalf of Entergy Gulf States, Inc. (Entergy Gulf States), tendered for filing a Long-Term Market Rate Sales Agreement between Entergy Gulf States and Brazos Electric Power Cooperative, Inc., for the sale of power under Entergy Services' Rate Schedule SP.

Comment date: May 25, 2000, in accordance with Standard Paragraph E at the end of this notice.

26. PPL EnergyPlus, LLC

[Docket No. ER00-2407-000]

Take notice that on May 4, 2000, PPL EnergyPlus, LLC (PPL EnergyPlus), tendered for filing revisions to its Rate Schedule No. 4.

PPL EnergyPlus has served a copy of this filing on PPL Electric Utilities Corporation.

Comment date: May 25, 2000, in accordance with Standard Paragraph E at the end of this notice.

27. PJM Interconnection, L.L.C.

[Docket No. ER00-2408-000]

Take notice that on May 4, 2000, PJM Interconnection, L.L.C. (PJM), tendered for filing signature pages to the Reliability Assurance Agreement among Load Serving Entities in the PJM Control Area (RAA) for ECONnergy PA, Inc. (ECONnergy) and Utilimax.com, Inc. (Utilimax.com), and an amended Schedule 17 listing the parties to the RAA.

PJM states that it served a copy of its filing on all parties to the RAA, including ECONnergy and Utilimax.com, and each of the state electric regulatory commissions within the PJM Control Area.

Comment date: May 25, 2000, in accordance with Standard Paragraph E at the end of this notice.

28. Puget Sound Energy, Inc.

[Docket No. ER00-2409-000]

Take notice that on May 4, 2000, Puget Sound Energy, Inc. (PSE), tendered for filing a Notice of Cancellation of a Service Agreement for Long-Term Firm Point-To-Point Transmission Service under FERC Electric Tariff Original Volume No. 7 Open Access Transmission Tariff with the United States of America Department of Energy acting by and through the Bonneville Power Administration (Bonneville), as Transmission Customer (Service Agreement No. 104 under PSE's FERC Electric Tariff Third Revised Volume No. 7).

PSE states that a copy of the filing was served upon Bonneville.

Comment date: May 25, 2000, in accordance with Standard Paragraph E at the end of this notice.

29. PPL Electric Utilities Corporation

[Docket No. ER00-2410-000]

Take notice that on May 4, 2000, PPL Electric Utilities Corporation (PPL Utilities), tendered for filing with the Federal Energy Regulatory Commission a Service Agreement between PPL Utilities and the Borough of Lewisberry under PPL Utilities' Market-Based Rate and Resale of Transmission Rights Tariff, FERC Electric Tariff, Revised Volume No. 5.

PPL Utilities requests an effective date of May 1, 2000, for the Power Sales Agreement.

PPL Utilities states that a copy of this filing has been provided to the Borough of Lewisberry and to the Pennsylvania Public Utility Commission.

Comment date: May 25, 2000, in accordance with Standard Paragraph E at the end of this notice.

30. PPL Electric Utilities Corporation

[Docket No. ER00-2411-000]

Take notice that on May 4, 2000, PPL Electric Utilities Corporation (PPL Utilities), tendered for filing with the Federal Energy Regulatory Commission a Power Sales Agreement between PPL Utilities and the Borough of Lewisberry under PPL Utilities' Market-Based Rate and Resale of Transmission Rights Tariff, FERC Electric Tariff, Revised Volume No. 5.

PPL Utilities requests an effective date of May 1, 2000 for the Power Sales Agreement.

PPL Utilities states that a copy of this filing has been provided to the Borough of Lewisberry and to the Pennsylvania Public Utility Commission.

Comment date: May 25, 2000, in accordance with Standard Paragraph E at the end of this notice.

31. Consumers Energy Company

[Docket No. ER00-2412-000]

Take notice that on May 4, 2000 Consumers Energy Company (Consumers), tendered for filing a Notice of Cancellation, terminating Consumers Energy Company Rate Schedule FERC No. 76, a facilities agreement with Wolverine Power Supply Cooperative, Inc., (Wolverine). The termination is by fully executed agreement between the two parties. Consumers requests that the cancellation be effective May 1, 2000, as specified in the termination agreement.

Copies of the filing were served upon Wolverine and upon the Michigan Public Service Commission.

Comment date: May 25, 2000, in accordance with Standard Paragraph E at the end of this notice.

32. American Electric Power Service Corporation

[Docket No. ER00-2413-000]

Take notice that on May 4, 2000, American Electric Power Service Corporation, on behalf of the operating companies of the American Electric Power System (collectively, AEP), tendered for filing an amendment to the AEP open access transmission tariff.

AEP states that a copy of the filing has been served on all of AEP's transmission customers and on the state public service commissions of Indiana, Kentucky, Michigan, Ohio, Tennessee, Virginia and West Virginia.

Comment date: May 25, 2000, in accordance with Standard Paragraph E at the end of this notice.

33. New Century Services, Inc.

[Docket No. ER00-2414-000]

Take notice that on May 4, 2000, New Century Services, Inc. (NCS), on behalf of Public Service Company of Colorado (Public Service), tendered for filing the Master Power Purchase and Sale Agreement between Public Service and South Plains Electric Cooperative, Inc., which is an umbrella service agreement under Public Service's Rate Schedule for Market-Based Power Sales (Public Service FERC Electric Tariff, Original Volume No. 6).

NCS requests that this agreement become effective on March 8, 2000.

Comment date: May 25, 2000, in accordance with Standard Paragraph E at the end of this notice.

34. Entergy Services, Inc.

[Docket No. ER00-2415-000]

Take notice that on May 5, 2000, Entergy Services, Inc. (Entergy Services), as agent for Entergy Arkansas, Inc., Entergy Gulf States, Inc., Entergy Louisiana, Inc., Entergy Mississippi, Inc., and Entergy New Orleans, Inc. (collectively, the Entergy Operating Companies), tendered for filing its 2000 annual rate redetermination update (Update) in accordance with the Open Access Transmission Tariff filed in compliance with FERC Order No. 888 in Docket No. OA96-158-000. Entergy Services states that the Update redetermines the formula rate in accordance with the annual rate redetermination provisions of Appendix 1 to Attachment H and Appendix A to Schedule 7.

Comment date: May 26, 2000, in accordance with Standard Paragraph E at the end of this notice.

35. Reliant Energy Maryland Holdings, LLC, Reliant Energy New Jersey Holdings, LLC and Reliant Energy Pennsylvania Holdings, LLC

[Docket Nos. ER00-2417-000]

Take notice that on May 4, 2000, Reliant Energy Maryland Holdings, LLC, Reliant Energy New Jersey Holdings, LLC and Reliant Energy Pennsylvania Holdings, LLC (collectively, the Reliant Energy PJM Companies), tendered for filing pursuant to section 205 of the Federal Power Act, 16 U.S.C. 824d (1994), and Part 35 of the Commission's Regulations, 18 CFR 35, revisions to their tariffs to provide for sales of regulation service at market-based rates through the Pennsylvania-New Jersey-Maryland Interchange Energy Market (PJM PX). Each of the Reliant Energy PJM Companies has further revised its tariff to consolidate provisions regarding energy, capacity and ancillary services into one market-based tariff per company.

The Reliant Energy PJM Companies request waiver of the prior notice requirements of Section 35.3 of the Commission's regulations, 18 CFR 35.3, to permit their filing to become effective as of June 1, 2000, or the date on which the PJM Interconnection, L.L.C., implements amendment to its Open Access Transmission Tariff and Operating Agreement regarding market-based pricing for Regulation service.

Comment date: May 25, 2000, in accordance with Standard Paragraph E at the end of this notice.

36. Cinergy Services, Inc.

[Docket No. ER00-2418-000]

Take notice that on May 5, 2000, Cinergy Services, Inc. (Cinergy), tendered for filing a Non-Firm Point-To-Point Service Agreement under Cinergy's Open Access Transmission Service Tariff (the Tariff) entered into between Cinergy and Cinergy Capital & Trading, Inc. (C&T).

Cinergy and C&T are requesting an effective date of April 5, 2000.

Comment date: May 26, 2000, in accordance with Standard Paragraph E at the end of this notice.

37. Allegheny Energy Service Corporation, on behalf of Allegheny Energy Supply Company, LLC

[Docket No. ER00-2419-000]

Take notice that on May 26, 2000, Allegheny Energy Service Corporation on behalf of Allegheny Energy Supply Company, LLC (Allegheny Energy Supply), tendered for filing Amendment No. 4 to Supplement No. 5 to the Market Rate Tariff to incorporate a Netting Agreement with Koch Energy Trading Inc., into the tariff provisions.

Allegheny Energy Supply requests a waiver of notice requirements to make the Amendment effective as of March 23, 2000 or such other date as ordered by the Commission.

Copies of the filing have been provided to the Public Utilities Commission of Ohio, the Pennsylvania Public Utility Commission, the Maryland Public Service Commission, the Virginia State Corporation Commission, the West Virginia Public Service Commission, and all parties of record.

Comment date: May 26, 2000, in accordance with Standard Paragraph E at the end of this notice.

38. New Century Services, Inc.

[Docket No. ER00-2420-000]

Take notice that on May 5, 2000, New Century Services, Inc., on behalf of Cheyenne Light, Fuel and Power Company, Public Service Company of Colorado, and Southwestern Public Service Company (the Companies), tendered for filing a service agreement under their Joint Open Access Transmission Service Tariff for Firm Point-to-Point Transmission Service between the Companies and PPL Montana LLC.

Comment date: May 26, 2000, in accordance with Standard Paragraph E at the end of this notice.

39. Cinergy Services, Inc.

[Docket No. ER00-2422-000]

Take notice that on May 3, 2000, Cinergy Services, Inc. (Cinergy), tendered for filing a Firm Point-To-Point Service Agreement under Cinergy's Open Access Transmission Service Tariff (the Tariff) entered into between Cinergy and Cinergy Capital & Trading, Inc., (C&T).

Cinergy and Conectiv are requesting an effective date of April 5, 2000.

Comment date: May 26, 2000, in accordance with Standard Paragraph E at the end of this notice.

40. Des Plaines Green Land Development, L.L.C.

[Docket No. ER00-2423-000]

Take notice that on May 5, 2000, Des Plaines Green Land Development, L.L.C. (Des Plaines), tendered for filing its proposed Emergency Redispatch Tariff. The tariff provides for the dispatch of the Des Plaines Generation Facility during emergencies by Commonwealth Edison Co. (ComEd), the utility with which the facility is interconnected.

Des Plaines requests that the proposed tariff become effective April 11, 2000, the requested effective date of the Interconnection Agreement between Des Plaines and ComEd, and has therefore requested that the Commission waive its notice requirements.

Des Plaines has served copies of the filing on the Illinois Commerce Commission and ComEd, the only customer under the proposed tariff.

Comment date: May 26, 2000, in accordance with Standard Paragraph E at the end of this notice.

41. New England Power Pool

[Docket No. ER00-2424-000]

Take notice that on May 5, 2000, the New England Power Pool Participants Committee submitted a Load Response Program and changes to Market Rule Appendix 20-B, and requested expedited consideration of the Program and these changes in order to have them become effective on June 1, 2000.

The NEPOOL Participants Committee states that copies of these materials were sent to the New England state governors and regulatory commissions and the Participants in the New England Power Pool.

Comment date: May 26, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-12467 Filed 5-17-00; 8:45 am]

BILLING CODE 6717-01-P